DEPARTMENT OF THE TREASURY

Submission for OMB Review; Comment Request

April 15, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before May 26, 2004, to be assured of consideration.

Internal Revenue Service (IRS)

OMB Number: 1545-0041.

Form Number: IRS Form 966.

Type of Review: Revision.

Title: Corporate Dissolution or Liquidation.

Description: Form 966 is filed by a corporation whose shareholders have agreed to liquidate the corporation. As a result of the liquidation, the shareholders receive the property of the corporation in exchange for their stock. The IRS uses Form 966 to determine if the liquidation election was properly made and if any taxes are due on the transfer of property.

Respondents: Business or other for-profit.

Estimated Number of Respondents/Recordkeepers: 26,000.

Estimated Burden Hours Respondent/Recordkeeper:

Recordkeeping | 5 hr., 1 min.
Learning about the law or the form | 30 min.
Preparing and sending the form to the IRS | 36 min.

Frequency of response: On occasion.

Estimated Total Reporting/Recordkeeping Burden: 159,120 hours.

OMB Number: 1545-0134.

Form Number: IRS Form 1128.

Type of Review: Extension.

Title: Application to Adopt, Change, or Retain a Tax Year.

Description: Form 1128 is needed in order to process taxpayers' requests to change their tax year. All information requested is used to determine whether the application should be approved. Respondents are taxable and nontaxable entities including individuals, partnerships, corporations, estates, tax-exempt organizations and cooperatives.

Respondents: Business or other for-profit, individuals or households, not-for-profit institutions, farms.

Estimated Number of Respondents/Recordkeepers: 11,800.

Estimated Burden Hours Respondent/Recordkeeper:

| Recordkeeping | Learning about the law or the form | Preparing and sending the form to the IRS
Parts I and II (Form 1128) | 8 hr., 36 min. | 5 hr., 51 min. | 6 hr., 15 min.
Parts I and III (Form 1128) | 22 hr., 14 min. | 5 hr., 37 min. | 7 hr., 26 min.

Frequency of response: On occasion.

Estimated Total Reporting/Recordkeeping Burden: 350,544 hours.

Clearance Officer: Glenn P. Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 04-9354 Filed 4-23-04; 8:45 am]

BILLING CODE 4830-01-P